DEPARTMENT OF TRANSPORTATION

Federal Highway Administration

Extension of Public Review and Comment Period for the Pyramid Way and McCarran Boulevard Intersection Improvement Project Draft Environmental Impact Statement (DEIS)

AGENCY: Federal Highway Administration, DOT.

ACTION: Notice.

SUMMARY: The Federal Highway Administration (FHWA), in cooperation with the Regional Transportation Commission of Washoe County (RTC) and the Nevada Department of Transportation (NDOT), is extending the review and comment period of the DEIS for the Pyramid Way and McCarran Boulevard Intersection Improvement project for an additional 15 days; therefore, comments on the DEIS may now be submitted no later than April 30, 2013. A Notice of Availability was previously published in the Federal Register Volume 78, No. 41 on Friday, March 1, 2013.

ADDRESSES: Comments on the DEIS can be mailed to the following address: Steve Cooke, P.E., Environmental Services Division Chief, 1263 S. Stewart St., Carson City, Nevada 89712 or via email to: scooke@dot.state.nv.us.

The DEIS can be accessed through NDOT's Web site at: http://www.nevadadot.com/Public_Involvement/Meetings/Meetings,_Hearings_and_Notices.aspx or RTC's Web site at: http://www.rtcwashoe.com/section-hot-topics. Copies are also available by request from NDOT Headquarters, Environmental Services Division, Room 104, 1263 S. Stewart St., Carson City, NV 89712, telephone: 775-888-7013. Hard copies are available for review at the Spanish Springs Library, 7100A Pyramid Lake Highway, Sparks, NV; the Sparks Library at 1125 12th Street, Sparks, NV; RTC Offices at 1105 Terminal Way, Suite 108, Reno, NV; and NDOT District II offices, 310 Galletti Way, Sparks, NV.

FOR FURTHER INFORMATION CONTACT: Steve Cooke, Environmental Services Division Chief, NDOT, 775-888-7013 or Abdelmoez Abdalla, Environmental Program Manager, FHWA, 775-687-1231.

Dated: April 4, 2013.
Susan E. Klekar,
Division Administrator, Federal Highway Administration, Carson City, Nevada.

[FR Doc. 2013-08457 Filed 4-10-13; 8:45 am]

BILLING CODE P